DEPARTMENT OF THE INTERIOR

Fish and Wildlife Service

[FWS-HQ-OLE-2020-N123; FF09L01300/FXLE12200900000/201; OMB Control Number 1018-New]

Agency Information Collection Activities; U.S. Fish and Wildlife Service Law Enforcement Training System

AGENCY: Fish and Wildlife Service, Interior.

ACTION: Notice of information collection; request for comment.

SUMMARY: In accordance with the Paperwork Reduction Act of 1995, we, the United States Fish and Wildlife Service (Service), are proposing a new information collection.

DATES: Interested persons are invited to submit comments on or before December 8, 2020.

ADDRESSES: Send your comments on the information collection request (ICR) by mail to the Service Information Collection Clearance Officer, U.S. Fish and Wildlife Service, MS: PRB (JAO/3W), 5275 Leesburg Pike, Falls Church, VA 22041-3803 (mail); or by email to Info_Coll@fws.gov. Please reference OMB Control Number “1018-Acadis” in the subject line of your comments.

FOR FURTHER INFORMATION CONTACT: To request additional information about this ICR, contact Madonna L. Baucum, Service Information Collection Clearance Officer, by email at Info_Coll@fws.gov, or by telephone at (703) 358-2503. Individuals who are hearing or speech impaired may call the Federal Relay Service at 1-800-877-8339 for TTY assistance.

SUPPLEMENTARY INFORMATION: In accordance with the Paperwork Reduction Act (PRA, 44 U.S.C. 3501 et seq.) and its implementing regulations at 5 CFR 1320, all information collections require approval under the PRA. We may not conduct or sponsor and you are not required to respond to a collection of information unless it displays a currently valid OMB control number.

As part of our continuing effort to reduce paperwork and respondent burdens, we invite the public and other Federal agencies to comment on new, proposed, revised, and continuing collections of information. This helps us assess the impact of our information collection requirements and minimize the public's reporting burden. It also helps the public understand our information collection requirements and provide the requested data in the desired format.

We are especially interested in public comment addressing the following:

(1) Whether or not the collection of information is necessary for the proper performance of the functions of the agency, including whether or not the information will have practical utility;

(2) The accuracy of our estimate of the burden for this collection of information, including the validity of the methodology and assumptions used;

(3) Ways to enhance the quality, utility, and clarity of the information to be collected; and

(4) How might the agency minimize the burden of the collection of information on those who are to respond, including through the use of appropriate automated, electronic, mechanical, or other technological collection techniques or other forms of information technology, e.g., permitting electronic submission of response.

Comments that you submit in response to this notice are a matter of public record. We will include or summarize each comment in our request to OMB to approve this ICR. Before including your address, phone number, email address, or other personal identifying information in your comment, you should be aware that your entire comment—including your personal identifying information—may be made publicly available at any time. While you can ask us in your comment to withhold your personal identifying information from public review, we cannot guarantee that we will be able to do so.

Abstract: The Branch of Training and Inspection (BTI) in the Service's Office of Law Enforcement coordinates and conducts training for Service special agents, wildlife inspectors, and administrative staff, as well as for State, Native American, and foreign individuals responsible for wildlife and habitat protection. Over the past decade, there have been substantial increases in the numbers of programs and individuals trained, hours of training provided, and numbers of training sites.

There is a critical need for a comprehensive, reliable, and secure internet-based system capable of planning, coordinating, and tracking the increased training-associated information and workflow, as well as the associated equipment, materials, and supplies required to successfully accomplish and sustain our vital training environments.

The BTI purchased the Acadis Readiness Suite, by Envisage Technologies. This software suite provides the Service with the opportunity to enhance the standardization of many of the internal processes associated with training and also provides us with an improved ability to respond to inquiries from Congress, the Department of the Interior, and other external agencies. The software suite will enhance the ability of the BTI to:

• Schedule/track internal and external training events;

• Improve the ability to register/track both our internal and external student population;

• To maintain training records throughout the career of Service personnel;

• To improve the ability to test and survey Service student populations;

• To establish a robust lesson plan repository; and

• To respond to inquiries from internal and external agencies.

In order to administer this proposed collection of information, the Service will need to collect the following information from prospective trainees:

• Full legal name;

• Gender;

• Country, city, and date of birth;

• Work address, telephone number, and email address;

• Official passport number, country of issue, expiration date, and national identification number (foreign government students only);

• Emergency contact information;

• Education, to include languages spoken;

• Agency/department name and address;

• Title/rank and level in agency;

• Law enforcement officer experience; and

• Supervisor's name, email address, and phone number.

The Service will use the information collected to record, track, and manage training records of domestic and foreign students affiliated with law enforcement agencies who attend training offered by the Service. The information will provide us with the capability to search the records of previous attendees (upon official inquiry only) by name, country of origin, or specific identifying number. We will only use students' information in the Acadis Readiness Suite for administrative functions such as signing up/registering for training, training history, and training requirements.

The authorities for the Service to collect the required information necessary to administer training programs utilizing the Acadis Readiness Suite include:

• Bald and Golden Eagle Protection Act (16 U.S.C. 668-668c);

• Lacey Act (18 U.S.C. 42-43; 16 U.S.C. 3371-3378);

• National Wildlife Refuge System Administration Act (16 U.S.C. 668dd-668ee);

• Migratory Bird Hunting Stamp Act (16 U.S.C. 718-718h);

• Migratory Bird Treaty Act (16 U.S.C. 703-712);

• Endangered Species Act (16 U.S.C. 1531-1543);

• Marine Mammal Protection Act (16 U.S.C. 1361-1407);

• Upper Mississippi River National Wildlife and Fish Refuge Act (16 U.S.C. 721-731);

• Bear River Migratory Bird Refuge Act (16 U.S.C. 690);

• Refuge Recreation Act (16 U.S.C. 460k-460k-4);

• Tariff Act of 1930 (19 U.S.C. 1202-1527);

• Uniform Federal Crime Reporting Act (28 U.S.C. 534);

• Intelligence Reform and Terrorism Prevention Act of 2004 (Pub. L. 108-458);

• Homeland Security Act of 2002 (Pub. L. 107-296);

• USA PATRIOT Act of 2001 (Pub. L. 107-56);

• USA PATRIOT Improvement Act of 2005 (Pub. L. 109-177);

• Homeland Security Presidential Directive 12—Policy for a Common Identification Standard for Federal Employees and Contractors; and

• Criminal Intelligence Systems Operating Policies, 28 CFR part 23.

Title of Collection: U.S. Fish and Wildlife Service Law Enforcement Training System.

OMB Control Number: 1018-New.

Form Number: None.

Type of Review: New.

Respondents/Affected Public: Domestic and international students who attend the law enforcement/conservation training offered by the Service's BTI.

Respondent's Obligation: Required to obtain or retain a benefit.

Frequency of Collection: One time for the initial registration, and on occasion for training session selections and post-course evaluations.

Total Estimated Annual Nonhour Burden Cost: None.

Requirement | Average number of annual respondents | Average number of responses each | Average number of annual responses | Average completion time per response | Estimated annual burden hours
Account Registration
State/Local/Tribal Govt | 100 | 1 | 100 | 15 mins | 25
Foreign Government | 400 | 1 | 400 | 15 mins | 100
Training Session Selection
State/Local/Tribal Govt | 100 | 1 | 100 | 15 mins | 25
Foreign Government | 400 | 1 | 400 | 15 mins | 100
Post Course Evaluation
State/Local/Tribal Govt | 100 | 1 | 100 | 15 mins | 25
Foreign Government | 400 | 1 | 400 | 15 mins | 100
Totals | 1,500 |  | 1,500 |  | 375

An agency may not conduct or sponsor and a person is not required to respond to a collection of information unless it displays a currently valid OMB control number.

The authority for this action is the Paperwork Reduction Act of 1995 (44 U.S.C. 3501 et seq.).

Dated: October 6, 2020.
Madonna Baucum,
Information Collection Clearance Officer, U.S. Fish and Wildlife Service.

[FR Doc. 2020-22399 Filed 10-8-20; 8:45 am]

BILLING CODE 4333-15-P